DEPARTMENT OF LABOR

Employment and Training Administration

[TA-W-64,719]

Shorewood Packaging, Home Entertainment Division, Springfield, OR; Notice of Termination of Investigation

Pursuant to Section 221 of the Trade Act of 1974, as amended, an investigation was initiated on December 17, 2008, in response to a petition filed on behalf of workers at Shorewood Packaging, Home Entertainment Division, Springfield, Oregon.

The petitioners have requested that the petition be withdrawn. Consequently, the investigation has been terminated.

Signed at Washington, DC this 31st day of March 2009.
Elliott S. Kushner,
Certifying Officer, Division of Trade Adjustment Assistance.

[FR Doc. E9-10211 Filed 5-4-09; 8:45 am]

BILLING CODE 4510-FN-P